DEPARTMENT OF HOMELAND SECURITY

Coast Guard

33 CFR Part 117

[Docket No. USCG-2014-0644]

Drawbridge Operation Regulation; Tigre Bayou, Vermilion Parish, Delcambre, LA

AGENCY: Coast Guard, DHS.

ACTION: Notice of temporary deviation from regulations.

SUMMARY: The Coast Guard has issued a temporary deviation from the regulation governing the operation of the LA 330 Swing Bridge across Tigre Bayou, mile 2.3 in Delcambre, Vermilion Parish, Louisiana. This deviation provides for the bridge to remain closed to navigation for approximately 80 days for the purpose of conducting scheduled maintenance to the drawbridge.

DATES: This deviation is effective from 6 a.m. on August 18, 2014 through 6 p.m. on November 9, 2014.

ADDRESSES: The docket for this deviation, [USCG-2014-0644] is available at http://www.regulations.gov. Type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Jim Wetherington, Bridge Administration Branch, Coast Guard, telephone (504) 671-2128, email james.r.wetherington@uscg.mil. If you have questions on viewing the docket, call Cheryl F. Collins, Program Manager, Docket Operations, telephone 202-366-9826.

SUPPLEMENTARY INFORMATION: The Louisiana Department of Transportation and Development (LADOTD) requested a temporary deviation from the normal operation of the drawbridge in order to perform maintenance and install a new rack system under the bridge. This deviation allows the draw of the LA 330 Swing Bridge across Tigre Bayou, mile 2.3 in Delcambre, Vermilion Parish, Louisiana, to remain closed to navigation from 6 a.m. on August 18, 2014 through 6 p.m. on November 9, 2014. These repairs require the bridge to be jacked up in order for the work to be done. These repairs are necessary for the continued operation of the bridge. The bridge can open for emergencies if four hours notice is given.

Broadcast Notice to Mariners and/or Local Notice to Mariners will be used to update mariners of any changes in this deviation.

The bridge has a vertical clearance of 5 feet above mean high water in the closed-to-navigation position and unlimited vertical clearance in the open-to-navigation position. Navigation on the waterway consists primarily of recreational craft. In accordance with 33 CFR 117.507, the draw of the bridge shall open on signal if at least four hours notice is given. There is no alternate route.

The Coast Guard and the State determined that there will be no significant impacts on vessel traffic because only one request for an opening was made within the last year. That vessel owner has been contacted by the contractor and is aware of the situation. Vessel traffic that does not require an opening may pass at any time at the minimum safe operating speed.

In accordance with 33 CFR 117.35(e), the drawbridges must return to their regular operating schedules immediately at the end of the effective period of this temporary deviation. This deviation from the operating regulations is authorized under 33 CFR 117.35.

Dated: July 24, 2014.
David M. Frank,
Bridge Administrator.

[FR Doc. 2014-18869 Filed 8-8-14; 8:45 am]

BILLING CODE 9110-04-P